DEPARTMENT OF THE INTERIOR

National Park Service

[NPS-WASO-NAGPRA-NPS0035448; PPWOCRADN0-PCU00RP14.R50000]

Notice of Intent To Repatriate Cultural Items: Mukwonago Community Library, Mukwonago, WI

AGENCY: National Park Service, Interior.

ACTION: Notice.

SUMMARY: In accordance with the Native American Graves Protection and Repatriation Act (NAGPRA), the Mukwonago Community Library intends to repatriate a cultural item that meets the definition of an unassociated funerary object and that has a cultural affiliation with the Indian Tribes in this notice. The cultural item was removed from Sacramento County, CA.

DATES: Repatriation of the cultural item in this notice may occur on or after April 10, 2023.

ADDRESSES: Abby Armour, Mukwonago Community Library, 511 Division St., Mukwonago, WI 53149, telephone (262) 363-6411, email nagpra@mukwonagolibrary.org.

SUPPLEMENTARY INFORMATION: This notice is published as part of the National Park Service's administrative responsibilities under NAGPRA. The determinations in this notice are the sole responsibility of the Mukwonago Community Library. The National Park Service is not responsible for the determinations in this notice. Additional information on the determinations in this notice, including the results of consultation, can be found in the summary or related records held by the Mukwonago Community Library.

Description

The one cultural item was removed from Hollister Mound in Sacramento County, CA. It was bequeathed to the Mukwonago Community Library by Arthur Grutzmacher, a local collector and dealer, following his death in 1965. The unassociated funerary object is one lot of shell beads (G01124).

Cultural Affiliation

The cultural item in this notice is connected to one or more identifiable earlier groups, tribes, peoples, or cultures. There is a relationship of shared group identity between the identifiable earlier groups, tribes, peoples, or cultures and one or more Indian Tribes or Native Hawaiian organizations. The following types of information were used to reasonably trace the relationship: geographical and historical.

Determinations

Pursuant to NAGPRA and its implementing regulations, and after consultation with the appropriate Indian Tribes, the Mukwonago Community Library has determined that:

• The one cultural item described above is reasonably believed to have been placed with or near individual human remains at the time of death or later as part of the death rite or ceremony and is believed, by a preponderance of the evidence, to have been removed from a specific burial site of a Native American individual.

• There is a relationship of shared group identity that can be reasonably traced between the cultural item and the Wilton Rancheria, California.

Requests for Repatriation

Additional, written requests for repatriation of the cultural item in this notice must be sent to the Responsible Official identified in ADDRESSES. Requests for repatriation may be submitted by any lineal descendant, Indian Tribe, or Native Hawaiian organization not identified in this notice who shows, by a preponderance of the evidence, that the requestor is a lineal descendant or a culturally affiliated Indian Tribe.

Repatriation of the cultural item in this notice to a requestor may occur on or after April 10, 2023. If competing requests for repatriation are received, the Mukwonago Community Library must determine the most appropriate requestor prior to repatriation. Requests for joint repatriation of the cultural item are considered a single request and not competing requests. The Mukwonago Community Library is responsible for sending a copy of this notice to the Indian Tribe identified in this notice.

Authority: Native American Graves Protection and Repatriation Act, 25 U.S.C. 3003, and the implementing regulations, 43 CFR 10.8, 10.10, and 10.14.

Dated: March 1, 2023.
Melanie O'Brien,
Manager, National NAGPRA Program.

[FR Doc. 2023-04898 Filed 3-9-23; 8:45 am]

BILLING CODE 4312-52-P